DEPARTMENT OF LABOR

Employment and Training Administration

[TA-W-70,888]

Camcar LLC—Rochester Operations, DBA Acument Global Technologies—Rochester Operations, Rochester, IN; Notice of Termination of Investigation

Pursuant to Section 223 of the Trade Act of 1974, as amended, an investigation was initiated on June 3, 2009 in response to a worker petition filed by a company official on behalf of workers of Camcar LLC—Rochester Operations, dba Acument Global Technologies, Rochester Operations, Rochester, Indiana.

The petitioning group of workers is covered by an existing certification (TA-W-70,260L) filed on May 20, 2009. The determination date of the existing certification is July 1, 2009. Consequently, further investigation in this case would serve no purpose, and the investigation has been terminated.

Signed at Washington, DC this 1st day of July 2009.
Elliott S. Kushner,
Certifying Officer, Division of Trade Adjustment Assistance.

[FR Doc. E9-18052 Filed 7-28-09; 8:45 am]

BILLING CODE 4510-FN-P